DEPARTMENT OF THE TREASURY

Senior Executive Service; Departmental Performance Review Board

AGENCY: Treasury Department.

ACTION: Notice of members of the Departmental Performance Review Board (PRB).

SUMMARY: Pursuant to 5 U.S.C. 4314(c)(4), this notice announces the appointment of members of the Departmental PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

Composition of Departmental PRB: The Board shall consist of at least three members. In the case of an appraisal of a career appointee, more than half the members shall consist of career appointees. The names and titles of the PRB members are as follows:

• Kody Kinsley, Assistant Secretary for Management

• Trevor Norris, Associate Chief Human Capital Officer for Executive and Human Capital Services

• Daniel L. Glaser, Assistant Secretary for Terrorist Financing

• Mark Mazur, Assistant Secretary for Tax Policy

• David A. Lebryk, Fiscal Assistant Secretary

• Anita K. Blair, Deputy Assistant Secretary for Human Resources and Chief Human Capital Officer

• John J. Manfreda, Administrator, Alcohol and Tobacco Tax and Trade Bureau

• Mary G. Ryan, Deputy Administrator, Alcohol and Tobacco Tax and Trade Bureau

• Jamal El-Hindi, Deputy Director, Financial Crimes Enforcement Network

• Sheryl Morrow, Commissioner, Bureau of Fiscal Service

• Wanda J. Rogers, Deputy Commissioner, Financial Services and Operations, Bureau of Fiscal Service

• Kimberly McCoy, Deputy Commissioner, Fiscal Accounting and Shared Services, Bureau of Fiscal Services

• Leonard Olijar, Director, Bureau of Engraving and Printing

• Matthew Rhett Jeppson, Principal Deputy Director of the Mint

• Jeffrey Tribiano, Deputy Commissioner, Operations Support, Internal Revenue Service

DATES: Membership is effective on the date of this notice.

FOR FURTHER INFORMATION CONTACT: Julia J. Markham, Director, Office of Executive Resources, 1500 Pennsylvania Avenue NW., ATTN: 1722 Eye Street, 9th Floor, Washington, DC 20220, Telephone: (202) 927-4370.

Julia Markham,
Director, Office of Executive Resources.

[FR Doc. 2016-25272 Filed 10-18-16; 8:45 am]

BILLING CODE 4810-25-P